DEPARTMENT OF THE INTERIOR

National Park Service

Chesapeake Bay Special Resource Study

AGENCY: National Park Service.

ACTION: Notice of Intent to prepare an Environmental Impact Statement and to Hold Public Scoping Meetings for the Chesapeake Bay Special Resource Study.

SUMMARY: This notice announces the intent to prepare an environmental impact statement and hold public scoping meetings for the Chesapeake Bay Special Resource Study.

The Fiscal Year 1999 appropriations bill for the Department of the Interior and related agencies included direction to the National Park Service to conduct a Chesapeake Bay Special Resource Study. The purpose of the study is to explore the appropriateness of representing additional Chesapeake Bay resource areas within the national park system and determine whether this would help advance the partnership effort to conserve and restore the Chesapeake Bay; to determine what type of resource(s) and concept(s) might be appropriate, if any; and to make recommendations to Congress regarding these findings. Such recommendations will focus on overall concepts and criteria, rather than evaluating specific sites. Direct input from political, environmental, business and community leaders, as well as local citizens, will help develop these concepts and criteria.

Four public meetings will be held in September 2002 to discuss the Chesapeake Bay Special Resource Study being undertaken by the National Park Service and to conduct scoping for an associated Environmental Impact Statement. The study is authorized by the fiscal year 1999 appropriations bill for the Department of the Interior. For information on specific meeting dates and locations may be obtained from http://www.chesapeakestudy.org or by contacting Jonathan Doherty, National Park Service Chesapeake Bay Program Office, 410 Severn Avenue, Suite 109, Annapolis, MD 21403, 410 267 5725, jdoherty@chesapeakebay.net.

Dated: June 27, 2002.
Pat Phelan,
Acting Director, Northeast Region.

[FR Doc. 02-24080 Filed 9-20-02; 8:45 am]

BILLING CODE 4310-70-P